SMALL BUSINESS ADMINISTRATION

[Declaration of Disaster #3379]

State of Tennessee (and Contiguous Counties in the State of Arkansas, Kentucky and Mississippi)

Henry and Shelby Counties and the contiguous Counties of Benton, Carroll, Fayette, Stewart, Tipton and Weakley in the State of Tennessee; Crittenden County in the State of Arkansas; Calloway and Graves Counties in the State of Kentucky; and DeSoto and Marshall Counties in the State of Mississippi constitute a disaster area due to damages caused by tornadoes and heavy rains that occurred on November 21, 2001 and continued through November 30, 2001. Applications for loans for physical damage may be filed until the close of business on February 5, 2002 and for economic injury until the close of business on September 6, 2002 at the address listed below or other locally announced locations: U.S. Small Business Administration, Disaster Area 2 Office, One Baltimore Place, Suite 300, Atlanta, GA 30308.

The interest rates are:

| Percent
For Physical Damage:
Homeowners With Credit Available Elsewhere | 6.500
Homeowners Without Credit Available Elsewhere | 3.250
Businesses With Credit Available Elsewhere | 8.000
Businesses and Non-Profit Organizations Without Credit Available Elsewhere | 4.000
Others (Including Non-Profit Organizations) With Credit Available Elsewhere | 6.375
For Economic Injury:
Businesses and Small Agricultural Cooperatives Without Credit Available Elsewhere | 4.000

The numbers assigned to this disaster for physical damage are 337912 for Tennessee; 338012 for Arkansas; 338112 for Kentucky; and 338212 for Mississippi. For economic injury, the numbers are 9N6800 for Tennessee; 9N6900 for Arkansas; 9N7000 for Kentucky; and 9N7100 for Mississippi.

(Catalog of Federal Domestic Assistance Program Nos. 59002 and 59008)
Dated: December 6, 2001.
Hector V. Barreto,
Administrator.

[FR Doc. 01-30841 Filed 12-13-01; 8:45 am]

BILLING CODE 8025-01-P